OFFICE OF GOVERNMENT ETHICS

Updated OGE Senior Executive Service Performance Review Board

AGENCY: Office of Government Ethics (OGE).

ACTION: Notice.

SUMMARY: Notice is hereby given of the appointment of members of the updated OGE Senior Executive Service (SES) Performance Review Board.

DATES: September 18, 2017.

FOR FURTHER INFORMATION CONTACT: Shelley K. Finlayson, Chief of Staff and Program Counsel, Office of Government Ethics, Suite 500, 1201 New York Avenue NW., Washington, DC 20005-3917; Telephone: 202-482-9300; TYY: 800-877-8339; FAX: 202-482-9237.

SUPPLEMENTARY INFORMATION: 5 U.S.C. 4314(c) requires each agency to establish, in accordance with regulations prescribed by the Office of Personnel Management at 5 CFR part 430, subpart C and § 430.310 thereof in particular, one or more Senior Executive Service performance review boards. As a small executive branch agency, OGE has just one board. In order to ensure an adequate level of staffing and to avoid a constant series of recusals, the designated members of OGE's SES Performance Review Board are being drawn, as in the past, in large measure from the ranks of other executive branch agencies. The board shall review and evaluate the initial appraisal of each OGE senior executive's performance by his or her supervisor, along with any recommendations in each instance to the appointing authority relative to the performance of the senior executive. This notice updates the membership of OGE's SES Performance Review Board as it was most recently published at 78 FR 76148 (December 16, 2013).

Approved: September 13, 2017.
David J. Apol,
Acting Director, U.S. Office of Government Ethics.

The following officials have been appointed members of the SES Performance Review Board of the Office of Government Ethics: Shelley K. Finlayson, [Chair], Chief of Staff and Program Counsel, Office of Government Ethics; Stuart Bender, Director, Office of Ethics, U.S. Department of Agriculture; Judith S. Kaleta, Deputy General Counsel, U.S. Department of Transportation; and Shira Pavis Minton, Ethics Counsel, Office of the Ethics Counsel, Securities and Exchange Commission.

[FR Doc. 2017-19835 Filed 9-15-17; 8:45 am]

BILLING CODE 6345-03-P